AGENCY FOR INTERNATIONAL DEVELOPMENT

Senior Executive Service: Membership of Performance Review Board

ACTION: Notice.

SUMMARY: This notice lists approved candidates who will comprise a standing roster for service on the Agency's SES Performance Review Board. The Agency will use this roster to select SES board members, and an outside member for the convening SES Performance Review Board each year. The standing roster is as follows:

Mauricio Vera, Chairperson;

Angelique Crumbly, Alternate;

Franklin Moore;

Susan Pascocello;

James Peters, Alternate;

Randy Streufert;

Karen Higgenbotham, Outside Member.

FOR FURTHER INFORMATION CONTACT: Melissa Jackson, 202-712-1781.

Dated: November 3, 2008.
Agnes D'Alessandro,
Chief, Employee and Labor Relations and Benefits Division.

[FR Doc. E8-26800 Filed 11-10-08; 8:45 am]

BILLING CODE 6116-02-P